DEPARTMENT OF THE INTERIOR

Office of the Secretary

43 CFR Part 4

[Docket No. DOI-2022-0010; 256D0102DM; D6CS00000; DLSN00000.000000; DX6CS25]

RIN 1094-AA57

Practices Before the Department of the Interior; Correction

AGENCY: Office of Hearings and Appeals, Interior.

ACTION: Interim final rule; correction.

SUMMARY: The Office of Hearings and Appeals (OHA) is issuing this document to correct the interim final rule published on January 10, 2025. These corrections address comments provided by the Office of the Federal Register regarding amendatory language and grammatical and technical errors that OHA identified in the published interim final rule.

DATES: Effective June 4, 2025.

FOR FURTHER INFORMATION CONTACT: Rachel R. Lukens, telephone: 703-235-3810, email: Rachel_Lukens@oha.doi.gov. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: On January 10, 2025, OHA published an interim final rule, entitled “Practices Before the Department of the Interior,” with an effective date of February 10, 2025 (90 FR 2332). OHA invited the public to submit additional suggestions for improvements by February 10, 2025, and stated that it would consider future revisions, if appropriate.

On January 20, 2025, the President issued a memorandum, entitled “Regulatory Freeze Pending Review.” The President's memorandum directed executive departments to “consider postponing for 60 days from the date of [the] memorandum the effective date for any rules that have been published in the Federal Register, or any rules that have been issued in any manner but have not taken effect, for the purpose of reviewing any questions of fact, law, and policy that the rules may raise.”

In compliance with the President's memorandum, OHA postponed the effective date of the interim final rule to March 21, 2025 (90 FR 9222), again to May 5, 2025 (90 FR 12461), and again to June 4, 2025 (90 FR 18927). During this time, and pursuant to the President's memorandum, the Department of the Interior has reviewed the interim final rule and identified certain grammatical and technical errors in the interim final rule that require correction.

Accordingly, in FR Doc. 2024-30358 (i.e., OHA's interim final rule) appearing on page 2332 in the Federal Register of Friday, January 10, 2025, the following corrections are made:

1. On page 2335, in the third column, remove the second full paragraph: “The interim final rule will update nomenclature by providing gender-neutral language, consistent with Executive Order 13988 on Preventing and Combating Discrimination on the Basis of Gender Identity or Sexual Orientation, signed by President Joseph R. Biden, Jr. on January 20, 2021.”

2. On page 2338, in the first column, the last sentence of the first full paragraph is corrected to read “Please reference: ‘OMB Control Number 1094-New/1094-AA57’ in the subject line of your comments.”

3. On page 2385, in the first column, in the first sentence under the subheading “Subpart I—Specific Rules Applicable to Proceedings Under Part 17—Nondiscrimination in Federally Assisted Programs”, remove the language “by providing gender-neutral language, consistent with Executive Order 13988 on Preventing and Combating Discrimination on the Basis of Gender Identity or Sexual Orientation, signed by President Joseph R. Biden, Jr., on January 20, 2021.”

§ 4.1 [Corrected]

4. On page 2390, in the second column, on the second line of § 4.1(b)(2)(i), the parenthetical abbreviation “(Ph.D.)” is corrected to “(PHD)”.

§ 4.26 [Corrected]

5. On page 2393, in the second column, on the third line of § 4.26(a), the term “Ph.D.” is corrected to “PHD”.

§ 4.27 [Corrected]

6. On page 2394, in the first column, on the third line of § 4.27(a)(2)(iii), the term “Ph.D.” is corrected to “PHD”.

§ 4.845 [Corrected]

7. On page 2427, in the second column, in amendment 55, the instruction “Amend § 4.845, the first sentence, to remove the words ‘upon him’ ” is corrected to read: “Amend § 4.845 by removing the words ‘upon him’ ”.

§ 4.1301 [Corrected]

8. On page 2430, in the third column, in amendment 93, the instruction “In § 4.1301, amend paragraph (a) by removing the words ‘the Hearings Division, Office of Hearings and Appeals, U.S. Department of the Interior’ and adding in their place the word ‘DCHD’ ” is corrected to read: “Amend § 4.1301 by removing the words ‘the Hearings Division, Office of Hearings and Appeals, U.S. Department of the Interior’ and adding in their place the acronym ‘DCHD’ ”.

Tyler Hassen,
Acting Assistant Secretary—Policy, Management and Budget.

[FR Doc. 2025-09937 Filed 5-30-25; 8:45 am]

BILLING CODE 4334-CC-P